FEDERAL COMMUNICATIONS COMMISSION

[WT Docket No. 01-287; DA 01-2365]

Great Western Aviation, Inc. and Utah Jet Center, LLC

AGENCY: Federal Communications Commission.

ACTION: Notice.

SUMMARY: In this document, the FCC consolidates the proceeding of Great Western Aviation and Utah Jet Center LLC., application for renewal of aeronautical advisory (unicom).station KQA7 in Logan, Utah. This consolidation allows both parties to have a comparative hearing. This gives the commission an opportunity to determine which applicant would provide the public with better unicom service.

ADDRESSES: Please file notifications of availability with the Secretary, of the Federal Communications Commission, Room 1-C804, 445 Twelfth Street, SW., Washington, DC 20554.

FOR FURTHER INFORMATION CONTACT: Roberto Mussendenn., Wireless Telecommunications Bureau, at (202) 418-1428.

SUPPLEMENTARY INFORMATION: This is a summary of the Federal Communications Commission's Hearing Designator Order, DA 01-2365, adopted on October 11, 2001 and released on October 12, 2001. The full text is available for inspection and copying during normal business hours in the FCC Reference Center, Room CY-A257, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Martha Contee at (202) 418-0260 or TTY (202) 418-2555.

On November 24, 2000, Great Western Aviation, Inc. (Great Western) filed an application for renewal of aeronautical advisory (unicom) station KQA7 in Logan, Utah. Unicom stations provide information concerning flying conditions, weather, availability of ground services, and other information to promote the safe and expeditious operation of aircraft. On December 7, 2000, Utah Jet Center, LLC (Utah Jet Center) filed an application for a new unicom station at the same location. Both applicants propose to provide service at Logan-Cache Airport, where there is no control tower or FAA flight service station. Under § 87.215(b) of the Commission's rules, only one unicom station may be licensed at such airports. Accordingly, these applications are mutually exclusive and must therefore be designated for comparative hearing.

A. Ordering Clauses

1. Accordingly, it is ordered that, pursuant to section 309(e) of the Communications Act of 1934, as amended, 47 U.S.C. 309(e), and § 1.221(a) of the Commission's Rules, 47 CFR 1.221(a), the parties' applications are designated for hearing in a consolidated proceeding to resolve the issues.

2. It is further ordered that the burden of proceeding with the introduction of evidence with respect to all the issues listed here shall be upon Great Western and Utah Jet Center with respect to their applications.

3. It is further ordered that, to avail themselves of the opportunity to be heard, the applicants, Great Western and Utah Jet, must each file with the Commission, within 20 days of the mailing of this Hearing Designation Order, a written notice of appearance in triplicate, accompanied by a processing fee of $9,020.00, stating their intentions to appear on the date fixed for the hearing and to present evidence on the issues specified in this Order, in accordance 47 CFR. 1.221(c), (f) and (g).

4. The Commission's Reference Information Center SHALL SEND a copy of this Order, via Certified Mail—Return Receipt Requested, to Great Western Aviation, 900 West 2500 North, Logan, Utah 84321, and to Utah Jet Center, LLC, P.O. Box 705, Logan, Utah 84321.

5. The Secretary of the Commission shall cause to have this Hearing Designation Order or a summary thereof published in the Federal Register.

6. The time and place of the comparative hearing will be specified in a subsequent Order, issued by the Enforcement Bureau.

Federal Communications Commission.
William F. Caton,
Deputy Secretary.

[FR Doc. 02-2283 Filed 1-30-02; 8:45 am]

BILLING CODE 6712-01-P